OFFICE OF PERSONNEL MANAGEMENT

5 CFR Part 532

RIN 3206-AL79

Prevailing Rate Systems; Redefinition of the Fresno and Stockton, CA, Appropriated Fund Federal Wage System Wage Areas

AGENCY: U.S. Office of Personnel Management.

ACTION: Proposed rule with request for comments.

SUMMARY: The U.S. Office of Personnel Management is issuing a proposed rule that would redefine the geographic boundaries of the Fresno and Stockton, CA, appropriated fund Federal Wage System (FWS) wage areas. The proposed rule would redefine Mariposa and Merced Counties and the Yosemite National Park portion of Madera and Tuolumne Counties, CA, to the Stockton wage area. These changes are based on recent consensus recommendations of the Federal Prevailing Rate Advisory Committee to best match the counties proposed for redefinition to a nearby FWS survey area.

DATES: We must receive comments on or before March 6, 2009.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is issuing a proposed rule to redefine the Fresno and Stockton, CA, appropriated fund Federal Wage System (FWS) wage areas. This proposed rule would redefine Mariposa and Merced Counties and the Yosemite National Park portion of Madera and Tuolumne Counties, CA, from the Fresno wage area to the Stockton wage area.

OPM considers the following regulatory criteria under 5 CFR 532.211 when defining FWS wage area boundaries:

(i) Distance, transportation facilities, and geographic features;

(ii) Commuting patterns; and

(iii) Similarities in overall population, employment, and the kinds and sizes of private industrial establishments.

Mariposa County is currently defined to the Fresno area of application. Based on our analysis of the regulatory criteria for defining appropriated fund wage area boundaries, we find that Mariposa County would be more appropriately defined as part of the Stockton area of application. When measuring from cities, the distance criterion does not favor one wage area more than another. When measuring from host installations, the distance criterion favors the Stockton wage area. The transportation facilities and geographic features criteria favor the Stockton wage area more than the Fresno wage area. Information from local employees indicates that at certain times roads from the south are blocked due to floods or rockslides, while routes from the north remain open. All other criteria are inconclusive. An additional factor to weigh in the decision to redefine Mariposa County is that the Department of the Interior (DOI) believes that recent economic developments in the area indicate some linkage between Mariposa County and the Stockton wage area.

Merced County is currently defined to the Fresno area of application. Our analysis of the regulatory criteria indicates that Merced County would be more appropriately defined as part of the Stockton wage area. The distance criterion favors the Stockton wage area more than the Fresno wage area. Merced County has a similar distribution of surveyable employment to the Stockton survey area. All other criteria are inconclusive. Although a standard review of regulatory criteria shows that most factors are inconclusive, distance does favor Stockton.

Tuolumne County, except for the Yosemite National Park portion, is currently defined to the Stockton area of application. The distance criterion for Tuolumne County favors the Stockton wage area more than the Fresno wage area. All other criteria are inconclusive. We believe that the mixed nature of our regulatory analysis findings indicate that Tuolumne County is appropriately defined to the Stockton wage area. DOI officials have requested that OPM consider redefining Yosemite National Park to the Stockton wage area. Because we are proposing to redefine Mariposa County to the Stockton wage area and because of the geographic proximity of Tuolumne County to the Stockton wage area, we propose that the portion of Tuolumne County occupied by Yosemite National Park be part of the Stockton wage area. This change would place the entire Tuolumne County in the Stockton wage area.

Madera County is currently defined to the Fresno area of application. Our analysis of the regulatory criteria indicates that Madera County is appropriately defined to the Fresno wage area. The distance and commuting patterns criteria for Madera County favors the Fresno wage area more than the Stockton wage area. However, DOI officials have requested that OPM consider redefining Yosemite National Park to the Stockton wage area. Because we are proposing that Mariposa County and the Yosemite National Park portion of Tuolumne County be redefined to the Stockton wage area and because we believe Yosemite National Park should not be split between the Fresno and the Stockton wage areas, we also propose that the portion of Madera County occupied by Yosemite National Park be part of the Stockton wage area. The remaining portion of Madera County would continue to be part of the Fresno wage area. We believe the distance and commuting patterns criteria indicate that the remaining locations in Madera County remain appropriately defined to the Fresno wage area. The Devils Postpile National Monument within Madera County would remain in the Reno, NV, wage area.

The Federal Prevailing Rate Advisory Committee (FPRAC), the national labor-management committee responsible for advising OPM on matters concerning the pay of FWS employees, recommended these changes by consensus. The affected employees in Mariposa and Merced Counties and the Yosemite National Park portion of Madera and Tuolumne Counties would be placed on the wage schedule for the Stockton wage area on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Kathie Ann Whipple,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of California is amended by revising the listings for Fresno and Stockton, to read as follows:

Appendix C to Subpart B of Part 532—Appropriated Fund Wage and Survey Areas

* * * * *

CALIFORNIA
Fresno
Survey Area
California:
Fresno
Kings
Tulare
Area of Application. Survey area plus:
California:
Kern (Does not include China Lake Naval Weapons Center, Edwards Air Force Base, and portions occupied by Federal activities in Boron (City).)
Madera (Does not include Devils Postpile National Monument and Yosemite National Park portions.)
* * * * *
Stockton
Survey Area
California:
San Joaquin
Area of Application. Survey area plus:
California:
Calaveras
Madera (Only includes Yosemite National Park portion.)
Mariposa
Merced
Stanislaus
Tuolumne
* * * * *

[FR Doc. E9-2392 Filed 2-3-09; 8:45 am]

BILLING CODE 6325-39-P